DEPARTMENT OF COMMERCE

National Oceanic and Atmospheric Administration

RIN 0648-XA021

Caribbean Fishery Management Council; Public Meeting

AGENCY: National Marine Fisheries Service (NMFS), National Oceanic and Atmospheric Administration (NOAA), Commerce.

ACTION: Notice of a public webinar.

SUMMARY: The Caribbean Fishery Management Council's (Council) Ecosystem-Based Fishery Management Technical Advisory Panel (EBFM TAP) will hold a two-hours webinar meeting to address the items contained in the agenda included in the SUPPLEMENTARY INFORMATION.

DATES: The webinar meeting will be held on February 19, 2020, from 9 a.m. to 11 a.m.

ADDRESSES: The webinar meeting will be held through GoToMeeting. You can join the meeting from your computer, tablet or smartphone at https://global.gotomeeting.com/join/771316093.

You can also dial in using your phone. United States: +1 (571) 317-3122 Access Code: 771-316-093. If joining from a video-conferencing room or system, depending on your device, dial in or type: 771316093@67.217.95.0 or 67.217.95.2##771316093.

FOR FURTHER INFORMATION CONTACT: Miguel Rolón, Executive Director, Caribbean Fishery Management Council, 270 Muñoz Rivera Avenue, Suite 401, San Juan, Puerto Rico 00918-1903, telephone: (787) 766-5926.

SUPPLEMENTARY INFORMATION:

February 19, 2020, 9 a.m.-11 a.m.

○ Introduction of Ecosystem-Based Fishery Management Technical Advisory Panel (EBMF TAP) Members and Staff

○ Purpose and Goals of EBFM TAP

○ Review of Caribbean EBFM Development Progress to Date

a. Conceptual Models Status and Next Steps

b. Risk Assessment/Ecosystem Status Report/Other Plan Components

○ Discussion on the Development of an Outline for the Fishery Ecosystem Plan

○ Planning for In-Person Meeting Ahead of April Caribbean Council Meeting

The order of business may be adjusted as necessary to accommodate the completion of agenda items. The meeting will begin on February 19, 2020, at 9 a.m.

Special Accommodations

For more information on this webinar, please contact Mr. Miguel A. Rolón, Executive Director, Caribbean Fishery Management Council, 270 Muñoz Rivera Avenue, Suite 401, San Juan, Puerto Rico, 00918-1903, telephone: (787) 766-5926.

Authority: 16 U.S.C. 1801 et seq.

Dated: January 22, 2020.
Tracey L. Thompson,
Acting Deputy Director, Office of Sustainable Fisheries, National Marine Fisheries Service.

[FR Doc. 2020-01270 Filed 1-24-20; 8:45 am]

BILLING CODE 3510-22-P